DEPARTMENT OF COMMERCE

International Trade Administration

[C-351-829]

Certain Hot-Rolled Flat-Rolled Carbon-Quality Steel Products from Brazil; Extension of Final Results of Expedited Sunset Review of the Suspended Countervailing Duty Investigation

AGENCY: Import Administration, International Trade Administration, Department of Commerce.

ACTION: Notice of Extension of Time Limit for Final Results of Expedited Sunset Review of the Suspended Countervailing Duty Investigation: Certain Hot-Rolled Flat-Rolled Carbon-Quality Steel Products from Brazil.

SUMMARY: The Department of Commerce (“the Department”) is extending the time limit for its final results in the expedited sunset review of the suspended countervailing duty (“CVD”) investigation on certain hot-rolled flat-rolled carbon-quality steel products (“hot-rolled steel”) from Brazil. Based on adequate responses from the domestic interested parties and inadequate responses from respondent interested parties (in this case, no response), the Department is conducting expedited sunset review to determine whether revocation of the suspended CVD investigation would lead to the continuation or recurrence of a countervailing subsidy. As a result of this extension, the Department intends to issue final results of this sunset review on or about October 15, 2004.

EFFECTIVE DATE: September 9, 2004.

FOR FURTHER INFORMATION CONTACT: Hilary E. Sadler, Esq., Import Administration, International Trade Administration, U.S. Department of Commerce, 14th Street & Constitution Avenue, NW., Washington, DC 20230; telephone: (202) 482-4340.

Extension of Final Results

In accordance with section 751(c)(5)(C)(ii) of the Tariff Act of 1930, as amended (“the Act”), the Department may treat sunset reviews as extraordinarily complicated if the issues are complex in order to extend the period of time under section 751(c)(5)(B) of the Act for making a sunset determination. As discussed below, the Department has determined that these issues are extraordinarily complicated. On May 1, 2004, the Department initiated sunset review of the suspended CVD investigation on hot-rolled steel from Brazil. See Initiation of Five-Year (Sunset) Reviews, 69 FR 24118 (May 1, 2004). The Department, in this proceeding, determined that it would conduct an expedited sunset review of this suspended CVD investigation based on responses from the domestic interested parties and no responses from the respondent interested parties to the notice of initiation. The Department's final results of this review was scheduled for August 31, 2004; however, the Department needs additional time for its analysis to analyze the issues raised by the parties.

Because of the complex issues in these proceedings, the Department will extend the deadline for issuance of the final results. Thus, the Department intends to issue the final results on or about October 15, 2004 in accordance with sections 751(c)(5)(B) and (C)(ii) of the Act.

Dated: August 31, 2004.
Jeffrey A. May,
Acting Assistant Secretary for Import Administration.

[FR Doc. E4-2102 Filed 9-8-04; 8:45 am]

BILLING CODE 3510-DS-S